DEPARTMENT OF COMMERCE

International Trade Administration

Secretarial Business Development Mission to Guatemala, El Salvador and Honduras

AGENCY: International Trade Administration, Department of Commerce.

ACTION: Notice to announce Secretary of Commerce Carlos M. Gutierrez business development mission to Guatemala, El Salvador and Honduras, October 16-22, 2005.

SUMMARY: Secretary of Commerce Carlos M. Gutierrez will lead a senior-level business development trade mission to Guatemala, El Salvador and Honduras, October 16-22, 2005. The overall focus of the trip will be commercial opportunities for U.S. companies, including joint ventures and export opportunities. In Guatemala City, Guatemala, the participants will have a market briefing followed by two days of one-on-one appointments with potential buyers/partners. There is also a possible meeting with the President of Guatemala and other high level government Officials. In San Salvador, El Salvador the participants will have a market briefing and two days of one-on-one appointments with potential buyers partners. There is also a possible meeting with the President of El Salvador and other high level government officials. The final stop is San Pedro Sula, Honduras where participants will have a market briefing, one-on-one appointments, and a possible meeting with the President and top government officials all rolled into one day.

DATES: Applications should be submitted to the Office of Business Liaison by September 16, 2005. Applications received after that date will be considered only if space and scheduling constraints permit.

FOR FURTHER INFORMATION CONTACT: Office of Business Liaison; Room 5062, Department of Commerce, Washington, DC 20230, tel: (202) 482-1360; Fax: (202) 482-4054.

SUPPLEMENTARY INFORMATION: Secretarial Business Development Mission to Central America, October 16-22, 2005.

Mission Description

Secretary of Commerce Carlos M. Gutierrez will lead a senior-level U.S. business delegation to Guatemala, El Salvador and Honduras, October 16-22, 2005, to highlight new regional opportunities for U.S. businesses in promising sectors in Central America.

The Business Development Mission will target, but not be limited to, the following industry sectors: Aerospace; Automotive Parts and Services Equipment; Building Supplies; Chemicals; Construction Equipment; Electrical Power Generation and Distribution Equipment; Environmental Technologies; Food Processing and Packaging; Information Technology; Medical Equipment; Paper and Paperboard; Pharmaceuticals; Plastics (Resins and Raw Materials); Printing and Graphics; and Textiles. The mission will include meetings with key government officials, American and local chambers of commerce, industry and trade associations, and business-to-business matchmaking appointments with local companies.

Representatives of the Overseas Private Investment Corporation (OPIC), U.S. Trade Development Agency (USTDA), the U.S. Export-Import Bank (Ex-Im), the U.S. Small Business Administration (SBA), and U.S. Agency for International Development (USAID) will participate, as appropriate, in order to provide information and counseling on their programs. Additionally, the Mission will be open to participation by representatives of U.S. trade associations in the targeted industry sectors.

Commercial Setting

The region created by the Central American and Dominican Republic Free Trade Agreement, commonly referred to as CAFTA, is the second-largest export market in Latin America and the 10th largest market in the world for U.S. exports. The United States exports more to this region than it exports to India, Russia and Indonesia combined. Last year, U.S. exports to the region surpassed $15 billion and nearly half of the region's imports are from the United States. CAFTA provides substantial new market access for U.S. companies and solidifies the United States as the leading supplier of goods and services to Central America by eliminating the vast majority of tariffs on U.S. goods exported to the region. More than eighty percent of U.S. exports of industrial, consumer, and agricultural products to Central America will become duty-free immediately upon entry into force of the Agreement, with remaining tariffs phased out over 10 years. Small and medium-sized enterprises in particular should benefit from the significant tariff cuts provided under CAFTA.

Mission Goals

The Mission to Central America will demonstrate U.S. commitment to the markets of Central America, maintain the momentum following the recent ratification of CAFTA, address implementation of the Agreement, and showcase next steps. The Mission will also highlight new regional opportunities for U.S. business, particularly in best prospects sectors in Central America. U.S. participants will gain first-hand market information, access to government decision makers, and one-on-one meetings with business contacts, so they can position themselves to enter or expand their presence in Central America. An additional benefit will be to provide information on U.S. government trade financing programs, through the inclusion of representatives from OPIC, USTDA, Ex-Im and SBA. Finally, the Mission will assist our CAFTA partners in attracting additional foreign direct investment.

Mission Scenario

The Mission to Central America will include three stops: Guatemala City, Guatemala; San Salvador, El Salvador; and San Pedro Sula, Honduras. In each city, participants will meet with key government officials, including where possible, the President. In addition, the mission participants will meet with representatives of the Chambers of Commerce and industry, trade associations, and potential business partners. Receptions and other business events will be organized to provide Mission participants with opportunities to meet local business and government representatives, as well as, U.S. business executives living and working in the region.

Timetable

The full program includes Guatemala, El Salvador and Honduras. Outside of the official Mission program, participants may choose to add stops in San Jose, Costa Rica, and/or Managua, Nicaragua—additional payments will apply to cover Gold Key Service appointments fees.

Guatemala City, Guatemala

Sunday, October 16:

Arrive Guatemala.

Briefing on Market Conditions by U.S. Government Officials.

Monday, October 17:

Possible Meetings with the President and Government Officials.

Business Event/Briefing with Local Industry Representatives.

Individual Company Appointments.

Reception Hosted by U.S. Ambassador.

Tuesday, October 18:

Business Event/Briefing with Local Industry Representatives.

Individual Company Appointments.

Depart Guatemala for Honduras.

San Pedro Sula, Honduras

Tuesday, October 18:

Arrive in Honduras.

Briefing on Market Conditions by U.S. Government Officials.

Wednesday, October 19:

Possible Meetings with the President and Government Officials.

Business Event/Briefing with Local Industry Representatives.

Individual Company Appointments.

Reception Hosted by U.S. Ambassador.

Thursday, October 20:

Depart Honduras for El Salvador.

San Salvador, El Salvador

Thursday, October 20:

Arrive in El Salvador.

Briefing on Market Conditions by U.S. Government Officials.

Business Event/Briefing with Local Industry Representatives.

Individual Company Appointments.

Reception Hosted by the U.S. Ambassador.

Friday, October 21:

Possible Meetings with the President and Government Officials.

Individual Company Appointments.

Business Event/Briefing by Local Industry Representatives.

Saturday, October 22:

Depart El Salvador for the United States.

Criteria For Participants' Selection

• Relevance of a company's business line to mission goals.

• Timeliness of the company's signed application and participation agreement (including the participation fees).

• Minimum of 10 and a maximum of 15 participating companies on the mission.

• Potential for business in Central America for the company.

• Provision of adequate information on the company's products and/or services, and the company's primary market objectives, in order to facilitate appropriate matching with potential business partners.

• Certification that the company meets Departmental guidelines for participation. A company's products or services must be either produced in the United States, or, if not, marketed under the name of a U.S. firm and have at least 51 percent U.S. content of the value of the finished product or service.

The participation fee is $7,700.00 per firm, which includes one representative. The fee for each additional firm representative is $2,000.00. The option to participate in the trade mission is also being offered to U.S.-based firms in Central America; the same fee structure applies. Expenses for travel, lodging, and incidentals will be the responsibility of each mission participant.

Any partisan political activities (including political contributions) of an applicant are entirely irrelevant to the selection process.

Timeframe for Recruitment and Applications

Mission recruitment will be conducted in an open and public manner, including publication in the Federal Register, posting on the Commerce Department trade mission calendar (http://www.ita.doc.gov/doctm/tmcal.html) and other Internet Web sites, press releases to general and trade media, direct mail, broadcast fax, notices by industry trade associations and other multiplier groups, and publicity at industry meetings, symposia, conferences, and trade shows. The Commercial Service will explore and welcome outreach assistance from other interested organizations, including other U.S. Government agencies.

Applications for the Mission will be made available August 1, 2005, through September 15, 2005. Applications can be obtained from the U.S. Department of Commerce Office of Business Liaison (202) 482-1360 or from the mission Web site at http://www.buyusa.gov/centralamerica/en/. The application deadline is September 16, 2005. Completed applications should be submitted to the Office of Business Liaison. Applications received after that date will be considered only if space and scheduling constraints permit.

Contacts

Applications

Jennifer Andberg, Deputy Director, Office of Business Liaison, Office of the Secretary, Washington, DC. Tel: (202) 482-1360. Jandberg@doc.gov.

Country Information

Daniel Thompson, Regional Senior Commercial Officer for Central America. Tel: (503) 2501-2060; Fax: (503) 2501-2073. Daniel.Thompson@mail.doc.gov.

Mary Boscia, Commercial Attache, El Salvador. Tel: (503) 2501-2064; Fax: (503) 2501-2073. Mary.Boscia@mail.doc.gov.

Mitch Larsen, Senior Commercial Officer, Guatemala. Tel: (502) 2326-4261; Fax: (502) 2331-7373. Mitch.Larsen@mail.doc.gov.

Rossana Lobo, Senior Commercial Specialist, Honduras. Tel: (504) 236-9320; Fax: (504) 238-2888. Rossana.Lobo@mail.doc.gov.

Program Information

Wake Margo, Project Officer, Global Trade Programs (GTP), Washington, DC. Tel: (202) 482-2026; Fax: (202) 428-2718. Wake.Margo@mail.doc.gov.

Dated: August 5, 2005.
Timothy Thompson,
Executive Director, Global Trade Programs.

[FR Doc. E5-4347 Filed 8-10-05; 8:45 am]

BILLING CODE 3510-FP-P